DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Health Service Corps (NHSC) Professional Training and Information Questionnaire (PTIQ) (OMB No. 0915-0208)—Revision

The National Health Service Corps (NHSC) of the HRSA's Bureau of Health Professions (BHPr), is committed to improving the health of the Nation's underserved by uniting communities in need with caring health professionals and by supporting communities' efforts to build better systems of care.

The National Health Service Corps (authorized by the Public Health Service Act, section 331) collects data on its programs to ensure compliance with legislative mandates and to report to Congress and policy makers on program accomplishments. To meet these objectives, the NHSC requires a core set of information collected annually that is appropriate for monitoring and evaluating performance and reporting on annual trends.

The PTIQ is used to collect data related to professional issues from NHSC-obligated Scholarship Program recipients including physicians, dentists, physician assistants (PAs), nurse practitioners (NPs), certified nurse midwives (CNMs), and other disciplines in the current year's placement cycle. The PTIQ is also used to collect data from NHSC Scholarship Program and Loan Repayment Program defaulters who request to satisfy their monetary debts through service. This data is used to match an individual health care professional with the most appropriate clinical practice setting.

The PTIQ will be provided to NHSC Scholarship Program participants up to twelve months in advance of the intended service availability date, and to defaulters when they submit a service request.

Estimates of annualized reporting burden are as follows:

Type of respondent | Number of respondents | Responses per respondent | Hours per response | Total burden hours
Physicians and Dentists | 202 | 1 | 5 min. | 17
NPs, PAs, CNMs | 106 | 1 | 5 min. | 9
Total | 308 |  |  | 26

Written comments and recommendations concerning the proposed information collection should be sent within 30 days of this notice to: John Morrall, Human Resources and Housing Branch, Office of Management and Budget, New Executive Office Building, Room 10235, Washington, DC 20503.

Dated: October 8, 2003.
Jon L. Nelson,
Associate Administrator for Management and Program Support.

[FR Doc. 03-26187 Filed 10-15-03; 8:45 am]

BILLING CODE 4165-15-P